DEPARTMENT OF AGRICULTURE

Forest Service

Meeting of the Land Between The Lakes Advisory Board

AGENCY: Forest Service, USDA.

ACTION: Notice of meeting.

SUMMARY: The Land Between The Lakes Advisory Board will hold a meeting on Thursday, June 20, 2002. Notice of this meeting is given under the Federal Advisory Committee Act, 5 U.S.C. App.2.

The meeting agenda includes the following:

(1) Welcome, Introductions, Agenda

(2) Environmental Education Program

(3) LBL Communication Plan

(4) Trust Fund Criteria Review

(5) LBL Data Clarification

(6) LBL Association

(7) Discussion of Public Comments Received

(8) Passport-in-Time Project

(9) Visit to Nature Station

The meeting is open to the public. Written comments are invited and may be mailed to: William P. Lisowsky, Area Supervisor, Land Between The Lakes,100 Van Morgan Drive, Golden Pond, Kentucky 42211. Written comments must be received at Land Between The Lakes by June 13, 2002, in order for copies to be provided to the members at the meeting. Board members will review written comments received, and at their request, oral clarification may be requested at a future meeting.

DATES: The meeting will be held on Thursday, June 20, 2002, 8:30 a.m. to 3:30 p.m., CDT.

ADDRESSES: The meeting will be held at the LBL Administration Building, Golden Pond, Kentucky, and will be open to the public.

FOR FURTHER INFORMATION CONTACT: Sharon Byers, Advisory Board Liaison, Land Between The Lakes, 100 Van Morgan Drive, Golden Pond, Kentucky 42211, 270-924-2002.

SUPPLEMENTARY INFORMATION: None.

Dated: May 21, 2002.
William P. Lisowsky,
Area Supervisor, Land Between The Lakes.

[FR Doc. 02-13315 Filed 5-28-02; 8:45 am]

BILLING CODE 3410-11-P